FEDERAL COMMUNICATIONS COMMISSION

47 CFR Part 73

[DA 02-3176, MM Docket No. 00-138, RM-9896]

Digital Television Broadcast Service; Boca Raton, FL

AGENCY: Federal Communications Commission.

ACTION: Final rule.

SUMMARY: The Commission, by this document, denies a petition for reconsideration filed by Sherjan Broadcasting Company, Inc., of the Report and Order, which substituted DTV channel *40 for station WPPB-TV's assigned DTV channel *44 at Boca Raton, Florida.¹ With this action, this proceeding is terminated.

¹ This Report and Order was not published in the Federal Register.

FOR FURTHER INFORMATION CONTACT: Alan E. Aronowitz, Media Bureau, (202) 418-1600.

SUPPLEMENTARY INFORMATION: This is a synopsis of the Commission's Memorandum Opinion and Order, MM Docket No. 00-138, adopted November 14, 2002, and released November 20, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, television.

Federal Communications Commission.
Barbara A. Kreisman,
Chief, Video Division, Media Bureau.

[FR Doc. 02-29853 Filed 11-22-02; 8:45 am]

BILLING CODE 6712-01-P